DEPARTMENT OF STATE

[Public Notice: 10777]

Department of State Commission on Unalienable Rights

AGENCY: Department of State.

ACTION: Notice of intent to establish an advisory committee.

The Secretary of State announces an intent to establish the Department of State Commission on Unalienable Rights (the Commission), in accordance with the Federal Advisory Committee Act.

Nature and Purpose: The Commission will provide the Secretary of State advice and recommendations concerning international human rights matters. The Commission will provide fresh thinking about human rights discourse where such discourse has departed from our nation's founding principles of natural law and natural rights.

Other information: It is anticipated that the Commission will meet at least once per month and at such other times and places as are required to fulfill the objectives of the Commission. The Department of State affirms that the advisory committee is necessary and in the public interest.

FOR FURTHER INFORMATION CONTACT: Emily Sissell, 202-647-3599.

Dated: May 22, 2019.
Kiron K. Skinner,
Director, Policy Planning, U.S. Department of State.

[FR Doc. 2019-11300 Filed 5-29-19; 8:45 am]

BILLING CODE 4710-10-P